ENVIRONMENTAL PROTECTION AGENCY

40 CFR Part 52

[EPA-R09-OAR-2009-0024; FRL-8943-8]

Withdrawal of Proposed Rule Revising the California State Implementation Plan; San Joaquin Valley Unified Air Pollution Control District

AGENCY: Environmental Protection Agency (EPA).

ACTION: Withdrawal of proposed rule.

SUMMARY: On July 14, 2009 (74 FR 33950), EPA published a rule proposing limited approval and limited disapproval of a revision to the San Joaquin Valley Unified Air Pollution Control District (SJVUAPCD) portion of the California State Implementation Plan. The revision concerned SJVUAPCD Rule 3170, Federally Mandated Ozone Nonattainment Fee. We are withdrawing this previously published rule, and in this Federal Register, we are publishing a proposed rule that replaces the July 14, 2009, proposed rule.

DATES: The proposed rule published on July 14, 2009 (74 FR 33950) is withdrawn as of August 19, 2009.

FOR FURTHER INFORMATION CONTACT: Mae Wang, EPA Region IX, (415) 947-4124, wang.mae@epa.gov.

SUPPLEMENTARY INFORMATION: On July 14, 2009 (74 FR 33950), EPA proposed limited approval and limited disapproval of SJVUAPCD Rule 3170, Federally Mandated Ozone Nonattainment Fee. Rule 3170 is a local fee rule that applies to major sources of volatile organic compound and nitrogen oxide emissions within the San Joaquin Valley ozone nonattainment area. Due to a clerical error, the proposed rule that was published on July 14, 2009, was inconsistent with the signed document. Consequently, we are withdrawing the rule proposed on July 14, 2009, and in this Federal Register, we are publishing the proposed rule as originally signed. The rule being proposed in this Federal Register replaces the following rule published on July 14, 2009:

Title: Revisions to the California State Implementation Plan, San Joaquin Valley Unified Air Pollution Control District (Proposed rule, 74 FR 33950, July 14, 2009, EPA-R09-OAR-2009-0024).

List of Subjects in 40 CFR Part 52

Environmental protection, Air pollution control, Intergovernmental relations, Nitrogen dioxide, Ozone, Reporting and recordkeeping requirements, Volatile organic compounds.

Dated: July 30, 2009.
Laura Yoshii,
Acting Regional Administrator, Region IX.

[FR Doc. E9-19857 Filed 8-18-09; 8:45 am]

BILLING CODE 6560-50-P